DEPARTMENT OF STATE

[Public Notice: 9083]

Notice of Charter Renewal for the President's Emergency Plan for AIDS Relief (PEPFAR) Scientific Advisory Board

SUMMARY: In accordance with the Federal Advisory Committee Act (FACA), the PEPFAR Scientific Advisory Board hereinafter referred to as “the Board”, has renewed its charter for an additional 2 years.

The Board serves the Global AIDS Coordinator in a solely advisory capacity concerning scientific, implementation, and policy issues related to the global response to HIV/AIDS. These issues will be of concern as they influence the priorities and direction of PEPFAR evaluation and research, the content of national and international strategies and implementation, and the role of PEPFAR in the international discourse regarding appropriate and resourced responses.

For further information about the charter, please contact Julia MacKenzie, Senior Technical Advisor, Office of the U.S. Global AIDS Coordinator at (202) 663-1079 or MacKenzieJJ@state.gov.

Dated: March 4, 2015.
Julia J. MacKenzie,
Senior Technical Advisor, Office of the U.S. Global AIDS Coordinator, Department of State.

[FR Doc. 2015-07921 Filed 4-6-15; 8:45 am]

BILLING CODE CODE 4710-10-P